DEPARTMENT OF TRANSPORTATION

Federal Motor Carrier Safety Administration

[Docket No. FMCSA-2013-0022]

Qualification of Drivers; Exemption Applications; Vision

AGENCY: Federal Motor Carrier Safety Administration (FMCSA), DOT.

ACTION: Notice of applications for exemptions; request for comments.

SUMMARY: FMCSA announces receipt of applications from 21 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before March 27, 2013.

ADDRESSES: You may submit comments bearing the Federal Docket Management System (FDMS) Docket No. FMCSA-2013-0022 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System (FDMS) published in the Federal Register on December 29, 2010 (75 FR 82132), or you may visit http://www.gpo.gov/fdsys/pkg/FR-2010-12-29/pdf/2010-32876.pdf.

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 21 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Keith Bell

Mr. Bell, age 40, has complete loss of vision in his right eye due to a traumatic incident in 2008. The best corrected visual acuity in his right eye is light perception, and in his left eye, 20/20. Following an examination in 2012, his ophthalmologist noted, “His vision is sufficient to perform the driving tasks required to operate a commercial vehicle.” Mr. Bell reported that he has driven straight trucks for 10 years, accumulating 1 million miles. He holds a Class B operator's license from Florida. His driving record for the last 3 years shows no crashes and one conviction for a moving violation in a CMV; he exceeded the speed limit by 9 mph.

Russell A. Bolduc

Mr. Bolduc, 53, has had a choroidal rupture in his right eye due to a traumatic incident in 1984. The visual acuity in his right eye is 20/400, and in his left eye, 20/20. Following an examination in 2012, his optometrist noted, “In my opinion, Mr. Bolduc has sufficient vision to perform the driving tasks required to operate a commercial vehicle.” Mr. Bolduc reported that he has driven straight trucks for 35 years, accumulating 350,000 miles, and tractor-trailer combinations for 33 years, accumulating 990,000 miles. He holds a Class A Commercial Driver's License (CDL) from Connecticut. His driving record for the last 3 years shows no crashes and no convictions for moving violations in a CMV.

David B. Bowman

Mr. Bowman, 30, has nerve damage in his right eye due to a traumatic incident in 2008. The visual acuity in his right eye is 20/100, and in his left eye, 20/20. Following an examination in 2012, his optometrist noted, “I feel the Mr. Bowman has sufficient vision to perform the driving tasks required to operate a commercial vehicle.” Mr. Bowman reported that he has driven tractor-trailer combinations for 10 years, accumulating 400,000 miles. He holds a Class B CDL from Pennsylvania. His driving record for the last 3 years shows no crashes and no convictions for moving violations in a CMV.

Ronnie Clark

Mr. Clark, 47, has amblyopia in his right eye since birth. The best corrected visual acuity in his right eye is 20/100, and in his left eye, 20/20. Following an examination in 2012, his optometrist noted, “Exam reveals amblyopia, refractive. Lifelong. Stable. Visual fields WNL. Color WNL. No contraindications for commercial driving.” Mr. Clark reported that he has driven tractor-trailer combinations for 26 years, accumulating 1.9 million miles. He holds a Class A CDL from Maine. His driving record for the last 3 years shows no crashes and no convictions for moving violations in a CMV.

Earl R. Gould, Jr.

Mr. Gould, 47, has had a retinal detachment in his right eye since childhood due to a traumatic incident. The best corrected visual acuity in his right eye is counting fingers, and in his left eye, 20/15. Following an examination in 2012, his ophthalmologist noted, “Based on his normal vision and visual field in his left eye, and his history of driving a commercial motor vehicle safely in the past with his current level of visual functioning, I conclude that he has sufficient vision to perform the driving tasks required to operate a commercial vehicle.” Mr. Gould reported that he has driven straight trucks for 9 years, accumulating 517,500 miles, and tractor-trailer combinations for 27 years, accumulating 2.9 million miles. He holds a Class A CDL from New York. His driving record for the last 3 years shows no crashes and no convictions for moving violations in a CMV.

Matthew J. Hahn

Mr. Hahn, 42, has a retinal scar in his left eye since childhood. The best corrected visual acuity in his right eye is 20/20, and in his left eye, 20/200. Following an examination in 2012, his optometrist noted, “It is my opinion that Matthew has a stable retinal scar. It should not progress. I feel that he has adequate vision to operate a commercial vehicle.” Mr. Hahn reported that he has driven straight trucks for 15 years, accumulating 390,000 miles. He holds a Class C operator's license from Pennsylvania. His driving record for the last 3 years shows no crashes and no convictions for moving violations in a CMV.

Terry R. Hunt

Mr. Hunt, 35, has a macular hole in his left eye due to a traumatic incident in 2000. The best corrected visual acuity in his right eye is 20/20, and in his left eye, 20/60. Following an examination in 2012, his ophthalmologist noted, “Commercial truck driver, good color vision, 180 degrees of peripheral vision, no medical contraindication to commercial truck driving.” Mr. Hunt reported that he has driven tractor-trailer combinations for 13 years, accumulating 1.2 million miles. He holds a Class A CDL from Florida. His driving record for the last 3 years shows no crashes and no convictions for moving violations in a CMV.

Sebastian G. Jachymiak

Mr. Jachymiak, 34, has a prosthetic in his left eye due to a traumatic incident in 1993. The best corrected visual acuity in his right eye is 20/20, and in his left eye, no light perception. Following an examination in 2012, his optometrist noted, “After evaluation of the above data, Sebastian Jachymiak has sufficient vision to perform the driving tasks required to operate a commercial vehicle.” Mr. Jachymiak reported that he has driven straight trucks for 15 years, accumulating 150,000 miles. He holds a Class D operator's license from Illinois. His driving record for the last 3 years shows no crashes and no convictions for moving violations in a CMV.

James P. O'Berry

Mr. O'Berry, 58, has a macular scar in his right eye since childhood. The best corrected visual acuity in his right eye is 20/200, and in his left eye, 20/20. Following an examination in 2012, his optometrist stated that, “In his opinion, Mr. O'Berry has sufficient vision to operate a commercial motor vehicle safely.” Mr. O'Berry reported that he has driven straight trucks for 41 years, accumulating 2 million miles, and tractor-trailer combinations for 41 years, accumulating 1.4 million miles. He holds a Class A CDL from Georgia. His driving record for the last 3 years shows no crashes and no convictions for moving violations in a CMV.

Mark A. Omps

Mr. Omps, 56, has had amblyopia in his left eye since childhood. The best corrected visual acuity in his right eye is 20/20, and in his left eye, 20/200. Following an examination in 2012, his optometrist noted, “In my opinion, testing provides satisfactory evidence that Mr. Omps possess sufficient vision to perform the driving tasks required to operate a commercial vehicle.” Mr. Omps reported that he has driven straight trucks for 1 year, accumulating 38,000 miles, and tractor-trailer combinations for 23 years, accumulating 1.4 million miles. He holds a Class A CDL from West Virginia. His driving record for the last 3 years shows no crashes and no convictions for moving violations in a CMV.

Gerson Lopez-Padilla

Mr. Lopez-Padilla, 39, has had choroidal atrophy in his right eye since childhood. The best corrected visual acuity in his right eye is 20/50, and in his left eye, 20/20. Following an examination in 2012, his ophthalmologist noted, “I certify that in my medical opinion, Mr. Gerson Lopez-Padilla has sufficient vision to perform the driving tasks required to operate a commercial vehicle.” Mr. Lopez-Padilla reported that he has driven straight trucks for 3 years, accumulating 78,000 miles, and tractor-trailer combinations for 3 years, accumulating 78,000 miles. He holds a Class A CDL from Connecticut. His driving record for the last 3 years shows no crashes and no convictions for moving violations in a CMV.

Jerry D. Paul

Mr. Paul, 57, has had amblyopia in his left eye since childhood. The best corrected visual acuity in his right eye is 20/20, and in his left eye, 20/400. Following an examination in 2012, his optometrist noted, “The pt has in my opinion the ability to operate a commercial vehicle with the vision that he currently possesses.” Mr. Paul reported that he has driven straight trucks for 38 years, accumulating 266,000 miles, and tractor-trailer combinations for 16 years, accumulating 80,000 miles. He holds a Class A CDL from Arkansas. His driving record for the last 3 years shows no crashes and no convictions for moving violations in a CMV.

Larry B. Peterson

Mr. Peterson, 51, has had a corneal scar in his right eye since childhood. The best corrected visual acuity in his right eye is light perception, and in his left eye, 20/20. Following an examination in 2012, his optometrist noted, “In my opinion patient has sufficient vision to perform the driving tasks required to operate a commercial vehicle.” Mr. Peterson reported that he has driven buses for 8 years, accumulating 340,000. He holds a Class B CDL from Arkansas. His driving record for the last 3 years shows no crashes and no convictions for moving violations in a CMV.

Franklin P. Reigle, III

Mr. Reigle, 58, has had a prosthetic in his left eye since childhood. The best corrected visual acuity in his right eye is 20/20, and in his left eye, no light perception. Following an examination in 2012, his optometrist noted, “Mr. Reigle has been safely driving a commercial vehicle ever since he has been a patient here and it is my opinion that he can continue to do so.” Mr. Reigle reported that he has driven straight trucks for 41 years, accumulating 717,500 miles, and tractor-trailer combinations for 31 years, accumulating 310,000 miles. He holds a Class AM CDL from Maryland. His driving record for the last 3 years shows no crashes and no convictions for moving violations in a CMV.

Phillip Schaub

Mr. Schaub, 64, has had amblyopia in his left eye since childhood. The best corrected visual acuity in his right eye is 20/20, and in his left eye, 20/80. Following an examination in 2012, his ophthalmologist noted, “It is my medical opinion that his vision meets all the criteria to perform the driving tasks required to operate a commercial vehicle.” Mr. Schaub reported that he has driven straight trucks for 11 years, accumulating 330,000 miles. He holds a Class B CDL from Colorado. His driving record for the last 3 years shows no crashes and no convictions for moving violations in a CMV.

Reginald Smart

Mr. Smart, 48, has had optic nerve atrophy in his left eye due to a traumatic incident during childhood. The best corrected visual acuity in his right eye is 20/20, and in his left eye, 20/400. Following an examination in 2012, his optometrist noted, “In summary, Mr. Smart has good vision, good color vision, and a good field of vision when using both eyes. His condition is stable and he should qualify to drive commercially.” Mr. Smart reported that he has driven tractor-trailer combinations for 16 years, accumulating 1.2 million miles. He holds a Class A CDL from Texas. His driving record for the last 3 years shows no crashes and no convictions for moving violations in a CMV.

George Stapleton

Mr. Stapleton, 61, has had a parafoveal scar in his left eye since 2009. The best corrected visual acuity in his right eye is 20/30, and in his left eye, 20/80. Following an examination in 2012, his opthalmologist noted, “He has, in my opinion, sufficient vision to perform driving tasks required to operate a commercial vehicle.” Mr. Stapleton reported that he has driven tractor-trailer combinations for 21 years, accumulating 1.3 million miles. He holds a Class A CDL from Georgia. His driving record for the last 3 years shows no crashes and no convictions for moving violations in a CMV.

Mark E. Studer

Mr. Studer, 57, has had true aphakia in his right eye since 1992. The best corrected visual acuity in his right eye is 20/150, and in his left eye, 20/20. Following an examination in 2012, his optometrist noted, “His uncorrected vision is hand motion at 20 feet in the right eye and 20/30 in the left eye. Mr. Studer has 100 degrees of horizontal field in the right eye and 100 degrees of horizontal in the left eye. The total horizontal visual field is greater than 120 degrees. Mr. Studer has no color vision abnormalities. Therefore, it is my opinion that Mark can safely operate a commercial vehicle.” Mr. Studer reported that he has driven straight trucks for 40 years, accumulating 40,000 miles, and tractor-trailer combinations for 19 years, accumulating 285,000 miles. He holds a Class A CDL from Kansas. His driving record for the last 3 years shows no crashes and no convictions for moving violations in a CMV.

James K. Waites

Mr. Waites, 43, has had a macular scar in his right eye due to a traumatic incident in 2003. The best corrected visual acuity in his right eye is 20/60, and in his left eye, 20/15. Following an examination in 2012, his ophthalmologist noted, “In my opinion he has sufficient vision to perform the driving tasks required to operate a commercial vehicle.” Mr. Waites reported that he has driven straight trucks for 25 years, accumulating 875,000 miles, and tractor-trailer combinations for 21 years, accumulating 42,000 miles. He holds a Class A CDL from Arkansas. His driving record for the last 3 years shows no crashes and one conviction for a moving violation in a CMV; he exceeded the speed limit by 20 mph.

Scott Wallbank

Mr. Wallbank, 49, has had refractive amblyopia in his right eye since childhood. The best corrected visual acuity in his right eye is 20/60, and in his left eye, 20/20. Following an examination in 2012, his ophthalmologist noted, “In my medical opinion, given the longstanding nature of Mr. Wallbank's visual deficiency in his right eye and his long experience as a commercial truck driver, I am comfortable stating that he does have sufficient vision to perform the driving tasks required to operate a commercial vehicle.” Mr. Wallbank reported that he has driven straight trucks for 18 years, accumulating 374,400 miles. He holds an operator's license from Massachusetts. His driving record for the last 3 years shows no crashes and no convictions for moving violations in a CMV.

Michael D. Zecha

Mr. Zecha, 34, has had amblyopia in his left eye since childhood. The best corrected visual acuity in his right eye is 20/20, and in his left eye, 20/200. Following an examination in 2012, his ophthalmologist noted, “In my medical opinion, Mr. Michael D. Zecha would be able to safely perform the driving tasks required for a commercial license. He has demonstrated this ability by driving with a similar waiver in the state of Kansas.” Mr. Zecha reported that he has driven straight trucks for 5 years, accumulating 25,000 miles, and tractor-trailer combinations for 2 months, accumulating 4,000 miles. He holds a Class A CDL from Kansas. His driving record for the last 3 years shows no crashes and no convictions for moving violations in a CMV.

Request for Comments

In accordance with 49 U.S.C. 31136(e) and 31315, FMCSA requests public comment from all interested persons on the exemption petitions described in this notice. The Agency will consider all comments received before the close of business March 27, 2013. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: February 15, 2013.
Larry W. Minor,
Associate Administrator for Policy.

[FR Doc. 2013-04191 Filed 2-22-13; 8:45 am]

BILLING CODE 4910-EX-P